Title 3—

The President

Presidential Determination No. 2005-38 of September 26, 2005

Presidential Determination Relating to Assistance for Saudi Arabia

Memorandum for the Secretary of State

Pursuant to the authority vested in me by the Constitution and the laws of the United States, including section 575 of the Foreign Operations, Export Financing, and Related Programs Appropriations Act, 2005 (FY 2005 FOAA) (Div. D, Public Law 108-447), I hereby certify that Saudi Arabia is cooperating with efforts to combat international terrorism and that the proposed assistance will help facilitate that effort, and hereby waive the application of section 575 of the FY 2005 FOAA, as well as any provision of law that is the same or substantially the same as such provision, including subsequently enacted provisions.

You are directed to report this certification to the Congress and publish it in the Federal Register.

B

THE WHITE HOUSE,

Washington, September 26, 2005.

[FR Doc. 05-20853

Filed 10-14-05; 8:45 am]

Billing code 4710-10-P